Title 3—

The President

Proclamation 8090 of December 8, 2006

Human Rights Day, Bill of Rights Day, and Human Rights Week, 2006

By the President of the United States of America

A Proclamation

Peace and justice prevail when people are free to speak, assemble, and worship, when their rights are protected, and when governments are accountable to their citizens. These blessings of freedom are guaranteed for Americans in the Bill of Rights of our Constitution. During Human Rights Day, Bill of Rights Day, and Human Rights Week, we celebrate the ideals of our founders and reaffirm the belief that freedom is the gift of God and the right of all mankind.

Just over six decades ago, the future of freedom seemed bleak, with only a small number of democracies around the world. Today, citizens of over 100 nations enjoy the blessings of democracy, and freedom is taking root in places where liberty had been unimaginable. The United States will continue to support the growth of democratic movements and institutions in every nation.

The advance of freedom is the story of our time, and new chapters are being written before our eyes. Around the world, freedom is replacing tyranny and giving men and women the opportunity to enjoy lives of purpose and dignity. Because Americans are committed to the God-given value of every life, we cherish the freedom of every person in every nation and strive to promote respect for human rights. By standing with those who desire liberty, we will help extend freedom to many who have not known it and lay the foundations of peace for generations to come.

NOW, THEREFORE, I, GEORGE W. BUSH, President of the United States of America, by virtue of the authority vested in me by the Constitution and laws of the United States, do hereby proclaim December 10, 2006, as Human Rights Day; December 15, 2006, as Bill of Rights Day; and the week beginning December 10, 2006, as Human Rights Week. I call upon the people of the United States to mark these observances with appropriate ceremonies and activities.

IN WITNESS WHEREOF, I have hereunto set my hand this eighth day of December, in the year of our Lord two thousand six, and of the Independence of the United States of America the two hundred and thirty-first.

[FR Doc. 06-9732

Filed 12-13-06; 8:45 am]

Billing code 3195-01-P